DEPARTMENT OF THE INTERIOR

National Park Service

[NPS-WASO-NAGPRA-NPS0037316; PPWOCRADN0-PCU00RP14.R50000]

Notice of Inventory Completion: U.S. Department of the Interior, Bureau of Land Management, Anchorage, AK

AGENCY: National Park Service, Interior.

ACTION: Notice.

SUMMARY: In accordance with the Native American Graves Protection and Repatriation Act (NAGPRA), the U.S. Department of the Interior, Bureau of Land Management (BLM Alaska) has completed an inventory of human remains and associated funerary objects and has determined that there is a cultural affiliation between the human remains and associated funerary objects and Indian Tribes or Native Hawaiian organizations in this notice. The human remains and associated funerary objects were removed from near Point Hope in the North Slope Borough, AK.

DATES: Repatriation of the human remains and associated funerary objects in this notice may occur on or after February 29, 2024.

ADDRESSES: Miriam (Nicole) Hayes, 222 W. 7th Avenue, #13, Anchorage, AK 99513, telephone (907)-271-4354, email mnhayes@blm.gov.

SUPPLEMENTARY INFORMATION: This notice is published as part of the National Park Service's administrative responsibilities under NAGPRA. The determinations in this notice are the sole responsibility of BLM Alaska. The National Park Service is not responsible for the determinations in this notice. Additional information on the determinations in this notice, including the results of consultation, can be found in the inventory or related records held by BLM, Alaska State Office.

Description

During 1939-1941, human remains representing, at minimum, 706 individuals were removed from numerous burial locations including at Tigara, Ipiutak, and Jabbertown, all within two miles of Point Hope, AK. These include ones from within what is presently referred to as the Ipiutak early village site that is now within a National Historic Landmark in the southern shore of Ipiutak Lagoon as well as a few from an early 20th century cemetery. The human remains, which are estimated to range in age from around 100 years old up to 2,500 years old, were removed under federal permit in 1939-1941 by archeologists Froelich Rainey and Helge Larsen and others associated with the University of Alaska (UAF) Museum in Fairbanks, AK (now the University of Alaska Museum of the North (UAMN)) and the American Museum of Natural History (AMNH). The human remains were all initially brought back to the AMNH where 701 are presently located with the other five in the UAMN. There are 2,174 associated funerary objects, with 1,462 in the AMNH and 712 in the UAMN.

In 1960, human remains representing, at minimum, three individuals were removed by Fredrick H. West, an archeologist associated with the UAF, from an archeological site near Cape Thompson, AK, about 26 miles southeast of Point Hope, AK. No associated funerary objects are present. These human remains are currently in the UAMN.

In 1961, human remains representing, at minimum, two individuals were removed by W. O. Pruit, an archeologist associated with the UAF, from an archeological site near Cape Thompson, AK, about 26 miles southeast of Point Hope, AK. No associated funerary objects are present. These human remains are currently in the UAMN.

In 1961, human remains representing, at minimum, 46 individuals were removed by Otto W. Geist, an archeologist associated with the UAF, from an archeological site during construction of an airfield near Point Hope, AK. No associated funerary objects are present. These human remains are currently in the UAMN.

In 1975, human remains representing, at minimum, one individual were removed by Anne Shinkwin, an archeologist associated with the UAF, as a surface collection from an archeological site within Point Hope, AK. No associated funerary objects are present. These human remains are currently in the UAMN.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information and oral tradition.

Determinations

Pursuant to NAGPRA and its implementing regulations, and after consultation with the appropriate Indian Tribes and Native Hawaiian organizations, BLM Alaska has determined that:

• The human remains described in this notice represent the physical remains of 758 individuals of Native American ancestry.

• The 2,174 objects described in this notice are reasonably believed to have been placed with or near individual human remains at the time of death or later as part of the death rite or ceremony.

• There is a relationship of shared group identity that can be reasonably traced between the human remains described in this notice and the Native Village of Point Hope, Point Hope, AK.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 29, 2024. If competing requests for repatriation are received, BLM Alaska must determine the most appropriate requestor prior to repatriation. Requests for joint repatriation of the human remains are considered a single request and not competing requests. BLM Alaska is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: January 24, 2024.
Melanie O'Brien,
Manager, National NAGPRA Program.

[FR Doc. 2024-01803 Filed 1-29-24; 8:45 am]

BILLING CODE 4312-52-P